DEPARTMENT OF ENERGY

[OE Docket No. EA-212-C]

Application To Export Electric Energy; Coral Power, L.L.C.

AGENCY: Office of Electricity Delivery and Energy Reliability, DOE.

ACTION: Notice of application.

SUMMARY: Coral Power, L.L.C. (Coral) has applied to renew its authority to transmit electric energy from the United States to Mexico pursuant to section 202(e) of the Federal Power Act (FPA).

DATES: Comments, protests or requests to intervene must be submitted on or before July 20, 2007.

ADDRESSES: Comments, protests or requests to intervene should be addressed as follows: Office of Electricity Delivery and Energy Reliability, Mail Code: OE-20, U.S. Department of Energy, 1000 Independence Avenue, SW., Washington, DC 20585-0350 (Fax: 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On June 9, 1999, the Department of Energy (DOE) issued Order No. EA-212 authorizing Coral to transmit electric energy from the United States to Mexico as a power marketer for a two-year term. On August 13, 2001, in Order No. EA-212-A, DOE renewed that authorization for a two-year term. On July 8, 2002, Coral filed an application with DOE to amend the existing export authorization contained in Order No. EA-212-A to add a list of authorized export points. On August 26, 2002, in Order No. EA-212-B, DOE renewed that authorization for a five-year term. That authorization will expire on August 26, 2007.

On May 31, 2007, Coral filed an application with DOE to renew the export authority contained in Order No. EA-212-B for an additional five-year term and requested expedited treatment of the application so that its authorization will not lapse. Coral does not own or control any transmission or distribution assets, nor does it have a franchised service area. The electric energy which Coral proposes to export to Mexico would be purchased from electric utilities and Federal power marketing agencies within the United States.

Coral will arrange for the delivery of exports to Mexico over the international transmission facilities currently owned by San Diego Gas and Electric Company, El Paso Electric Company, Central Power and Light Company, and Comision Federal de Electricidad, the national utility of Mexico.

The construction, operation, maintenance, and connection of each of the international transmission facilities to be utilized by Coral has previously been authorized by a Presidential permit issued pursuant to Executive Order 10485, as amended.

Procedural Matters: Any person desiring to become a party to this proceeding or to be heard by filing comments or protests to this application should file a petition to intervene, comment or protest at the address provided above in accordance with §§ 385.211 or 385.214 of the Federal Energy Regulatory Commission's Rules of Practice and Procedures (18 CFR 385.211, 385.214). Fifteen copies of each petition and protest should be filed with DOE on or before the date listed above.

Comments on the Coral application to export electric energy to Mexico should be clearly marked with Docket No. EA-212-C. Additional copies are to be filed directly with Robert Reilley, Vice President, Regulatory Affairs, Coral Power, L.L.C., 909 Fannin, Plaza Level One, Houston, TX 77010 and Jane Barnett, Regulatory analyst, Coral Power, L.L.C., 909 Fannin, Plaza Level One, Houston, TX 77010.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's Home Page at http://www.oe.energy.gov/304.htm.

Issued in Washington, DC, on June 14, 2007.
Anthony J. Como,
Director, Permitting and Siting Office of Electricity Delivery and Energy Reliability.

[FR Doc. E7-11917 Filed 6-19-07; 8:45 am]

BILLING CODE 6450-01-P